DEPARTMENT OF HEALTH AND HUMAN SERVICES

Health Resources and Services Administration

Statement of Organization, Functions, and Delegations of Authority

This notice amends Part R of the Statement of Organization, Functions and Delegations of Authority of the Department of Health and Human Services (DHHS), Health Resources and Services Administration (60) FR 56605 as amended November 6, 1995, as last amended at 65 FR 38565-68 dated June 21,2000).

This notice reflects the organizational and functional changes in the Bureau of Health Professions (RP). Make the following changes:

1. Delete the opening functional statement for the Bureau of Health Professions in its entirety and replace with the following:

Bureau of Health Professions (RP)

Provides national leadership in coordinating, evaluating, and supporting the development and utilization of the Nation's health personnel. Specifically: (1) Assess the Nation's health personnel supply and requirements and forecasts supply and requirements for future time periods under a variety of health resources utilization assumptions; (2) collects and analyzes data and disseminates information on the characteristics and capacities of the Nation's health personnel production systems; (3) proposes new or modifications of existing Departmental legislation, policies, and programs related to health personnel development and utilization; (4) develops, tests and demonstrates new and improved approaches to the development and utilization of health personnel within various patterns of health care delivery and financing systems; (5) provides financial support to institutions and individuals for health professions education programs; (6) administers Federal programs for targeted health personnel development and utilization; (7) provides leadership for promoting equity and diversity in access to health services and health careers for under-represented minority groups; (8) provides technical assistance, consultation, and special financial assistance to national, State, and local agencies, organizations, and institutions for the development, production, utilization, and evaluation of health personnel; (9) provides linkage between Bureau headquarters and HRSA Field Office activities related to health professions education and utilization by providing training, technical assistance, and consultation to Field Office staff; (10) coordinates with the programs of other agencies within the Department, and in other Federal Departments and agencies concerned with health personnel development and health care services; (11) provides liaison and coordinates with non-Federal organizations and agencies concerned with health personnel development and utilization; (12) in coordination with the Office of the Administrator, Health Resources and Services Administration, serves as a focus for technical assistance activities in the international aspects of health personnel development, including the conduct of special international projects relevant to domestic health personnel problems; (13) administers the National Vaccine Injury Compensation Program; (14) administers the National Practitioner Data Bank Program; (15) administers the Healthcare Integrity and Protection Data Bank Program; (16) administers the Ricky Ray Hemophilia Relief Fund Program; and (17) administers the Children's Hospitals Graduate Medical Education (CHGME) Payment Program.

2. Delete the opening functional statement for the Office of Program Support in its entirety and replace with the following:

Office of Program Support (RP1)

Plans, directs, coordinates and evaluates Bureau-wide administrative management activities, including grants management and financial management activities. Maintains close liaison with officials of the Bureau, Agency, the Office of the Assistant Secretary for Health, and the Office of the Secretary on management and support activities. Specifically: (1) Serves as the Bureau Director's principal source for management and administrative advice and assistance; (2) provides advice, guidance, and coordinates personnel activities for the Bureau with the Division of Personnel, HRSA: (3) directs and coordinates the allocation of personnel resources; (4) provides organization and management analysis, develops policies and procedures for internal operation, and interprets and implements the Bureau's management policies, procedures and systems; (5) develops and coordinates program and administrative delegations of authority activities; (6) responsible for planning and directing Bureau financial management activities, including budget formulation, presentation, and execution functions; (7) conducts all business management aspects of the review, negotiation, award and administration of Bureau grants management activities; (8) provides Bureau-wide support services such as supply management, equipment utilization, printing, property management, space management, records management and management reports; (9) serves as the Bureau's focal point for correspondence control; (10) manages the Bureau's performance management systems; (11) coordinates and provides guidance on the Freedom of Information Act and Privacy Act activities; (12) coordinates the development of the Bureau's annual procurement plans and schedule for Bureau grants, contracts, and cooperative agreements; and (13) develops general guidance and criteria related to the Bureau's grant programs.

3. Establish the Office of Extramural Program Review.

Office of Extramural Program Review (RPG)

(1) Serves as the Bureau's focal point for the administration and management of the grants and cooperative agreement review process, and its peer review functions; (2) develops, implements and maintains policies and procedures necessary to carry out primary functions in keeping with all Agency (3) maintains close liaison between Divisions/Offices to obtain information regarding potential peer reviewer panelists; (4) provide technical assistance to Peer Reviewers ensuring that reviewers are aware of and comply with the appropriate administrative policies and regulations, e.g., conflict of interest, confidentiality, and Privacy Act; (5) provide technical advice and guidance to the Director regarding the Bureau's peer review processes; (6) coordinate and assure the development of program policies and rules relating to the Bureau's extramural activities; (7) administer the Bureau's peer review function under the Federal Advisory Committee Act; and provide Divisions with final disposition, e.g., approval/disapproval for all applications peer reviewed.

Delegations of Authority

All delegations and redelegations of authority which were in effect immediately prior to the effective date hereof have been continued in effect in them or their successors pending further redelegation.

This reorganization is effective upon date of signature.

Dated: July 18, 2000.
Claude Earl Fox,
Administrator.

[FR Doc. 00-18831 Filed 7-25-00; 8:45 am]

BILLING CODE 4160-15-P